DEPARTMENT OF JUSTICE

Notice of Lodging of Proposed Amendment to Consent Decree Under the Clean Water Act

On April 5, 2018, the Department of Justice lodged a proposed Amendment to the Consent Decree on Combined Sewer Overflows, Wastewater Treatment Plants and Implementation of Capacity Assurance Program Plan for Sanitary Sewer Overflows (“Amendment to the Global Decree”) with the United States District Court for the Southern District of Ohio in the lawsuit entitled United States et al. v. Board of County Commissioners of Hamilton County and the City of Cincinnati, Civil Action No. C-1-02-107. On April 3, 2018, the U.S. Environmental Protection Agency, the Ohio Environmental Protection Agency, and the Ohio River Valley Water Sanitation Commission (collectively, “regulators”) conditionally approved defendants' proposal to modify their Wet Weather Improvement Plan (“WWIP”) to (a) change the date for submission of the required Phase 2 schedule to June 30, 2018, and (b) require Defendants to implement a “bridge schedule” of specified remedial measures expected to cost approximately $49 million by December 31, 2019. The regulators' approval is conditioned on the Court's entry of this Amendment to the Global Decree.

The publication of this notice opens a period for public comment on the proposed Amendment to the Global Decree, which is available for public review as described below. Comments should be addressed to the Assistant Attorney General, Environment and Natural Resources Division, and should refer to United States et al. v. Board of County Commissioners of Hamilton County and the City of Cincinnati, D.J. Ref. No. 90-5-1-6-341A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amendment to the Global Decree and the related modifications to the WWIP may be examined and downloaded at this Justice Department website: https://www.justice.gov/enrd/consent-decrees. We will provide a paper copy of the Amendment to the Global Decree and the associated WWIP modifications upon written request and payment of reproduction costs. Please mail your request and payment to: Consent Decree Library, U.S. DOJ—ENRD, P.O. Box 7611, Washington, DC 20044-7611.

Please enclose a check or money order for $7.50 (25 cents per page reproduction cost, applicable only to requests for a paper copy) payable to the United States Treasury.

Thomas Carroll,
Assistant Section Chief, Environmental Enforcement Section, Environment and Natural Resources Division.

[FR Doc. 2018-07604 Filed 4-11-18; 8:45 am]

BILLING CODE 4410-15-P